ENVIRONMENTAL PROTECTION AGENCY

[ER-FRL-6658-6]

Environmental Impact Statements; Notice of Availability

Responsible Agency: Office of Federal Activities, General Information (202) 564-7167 or http://www.epa.gov/compliance/nepa/.

Weekly receipt of Environmental Impact Statements Filed December 6, 2004 through December 10, 2004 Pursuant to 40 CFR 1506.9.

EIS No. 040567, Final EIS, FHW, NY, Slingerlands Bypass Extension (NYS Route 85) (P.I.N. 1125.19) Route 140 (Cherry Avenue Extension) to the Albany City Line, Reconstruction Town of Bethlehem, Albany County, NY, Wait Period Ends: January 18, 2005, Contact: Robert Arnold (581) 431-4127.

EIS No. 040568, Final EIS, FHW, IL, U.S. Route 20 (FAP 301) Project, Construction from IL Route 84 north of Galena to Bolton Road northwest of Freeport, Funding, NPDES Permit and U.S. Army COE Section 404 Permit Issuance, Jo Davies and Stephenson Counties, IL, Wait Period Ends: January 18, 2005, Contact: Norman R. Stoner (217) 492-4640.

EIS No. 040569, Draft EIS, NRC, VA, Early Site Permit (ESP) at the North Anna Power Station ESP Site (TAC No. MC1128), Construction and Operation, NUREG-1811, Louisa County, VA, Comment Period Ends: March 1, 2005, Contact: Jack Cushing (301) 415-1424.

EIS No. 040570, Final EIS, AFS, OR, Diamond Lake Restoration Project, Improve Water Quality and the Recreational Fishery, Umpqua National Forest, Diamond Lake Ranger District, Umpqua River Basin, Douglas County, OR, Wait Period Ends: January 18, 2005, Contact: Sherri Chambers (541) 496-3532.

EIS No. 040571, Draft EIS, COE, OH, Mill Creek, Ohio Flood Damage Reduction Project, To Reduce Damages to Communities, Hamilton County, OH , Comment Period Ends: January 31, 2005, Contact: Barry Schueler (502) 315-6780.

EIS No. 040572, Final EIS, FHW, WI, US 10 Highway Improvements between Marshfield and Appleton, Trestik Road—CTH “K” (Stevens Point Bypass), Funding and COE Section 404 Permit, Portage County, WI, Wait Period Ends: January 18, 2005, Contact: Wesley Shemwell (608) 829-7521.

EIS No. 040573, Final EIS, FHW, TX, Kelly Parkway Project, Construction from U.S. 90 to TX-16, to Improvement Transportation Mobility, Facilitate Economic Development, and Enhance Safety, Funding and U.S. Army COE Section 404 Permit, San Antonio, Bexar County, TX, Wait Period Ends: January 18, 2005, Contact: Salvador Deocampo (512) 536-5950.

EIS No. 040574, Draft EIS, AFS, NM, Buckman Water Diversion Project, Proposal to Divert Water from Rio Grande and San Juan-Chama Project, To Meet Water Supply Needs, Sante Fe National Forest and Taos Field Office, Sante Fe County, NM, The U.S. Department of Agriculture's, Forest Service and The U.S. Department of Interior's, Bureau of Land Management are Joint Lead Agencies on the above project. The Contact Person for AFS is Sanford Hurlocker at phone number (505) 753-7331; Contact person for BLM is Sharon Churchill at (505) 751-4725.

EIS No. 040575, Final EIS, IBR, CA, San Joaquin River Exchange Contractors Water Authority—2005 to 2014, Water Transfer Program, Stanislaus, San Joaquin, Merced, Madera, Fresno, San Benito, Santa Clara, Kern, and Kings Counties, CA, Wait Period Ends: January 18, 2005, Contact: Bob Eckart (916) 978-5051.

EIS No. 040576, Final EIS, BIA, OR, Wanapa Energy Center, Construction and Operation a New 1,200 Megawatt (MW) Natural Gas-Fired Electric Power Generating Facility, Confederated Tribes of the Umatilla Indian Reservation (CTUIR), in the City of Hermiston and the Port of Umatilla, OR, Wait Period Ends: January 18, 2005, Contact: Jerry Lauer (541) 278-3786.

EIS No. 040577, Final EIS, BIA, WY, Wind River Natural Gas Field Development Project, Construction, Drilling and Production Operation of Natural Gas Wells, Fremont County, WY, Wait Period Ends: January 18, 2005, Contact: Ray A. Nation (307) 332-3718.

EIS No. 040578, Final, FTA, OR, WA, South Corridor Project, I-205/Portland Mall Light Rail (Phase I), Selected the Locally Preferred Alternative (LPA), Clackamas and Multnomah Counties, OR, Wait Period Ends: January 31, 2005, Contact: Rebecca Reyes-Alicea (206) 220-4464.

EIS No. 040579, Final EIS, DOI, AZ, CA, NV, NM, Programmatic EIS—Lower Colorado River Multi-Species Conservation Program, Issuing a Incidental Take Permit based on the Plan, Extending from Lake Mead to the Southerly International Boundary with Mexico, AZ, NV and CA, Wait Period Ends: January 18, 2005, Contact: Glen Gould (702) 293-8702.

EIS No. 040580, Final EIS, NPS, WI, Arrowhead-Weston Transmission Line Right-of-Way Crossing of the St. Croix National Scenic Riverway, U.S. Army COE Section 10 and 404 Permits, Washburn County, WI, Wait Period Ends: January 18, 2005, Contact: Jill Medland (715) 483-3284.

EIS No. 040581, Final EIS, DOE, CA, Imperial-Mexicali 230-kV Transmission Lines, Construct a Double-Circuit 230-kV Transmission Line, Presidential Permit and Right-of-Way Grants, Imperial Valley Substation to Calexico at the U.S.-Mexico Border, Imperial County, CA and U.S.-Mexico Border, Wait Period Ends: January 18, 2005, Contact: Ellen Russell (202) 586-9624.

EIS No. 040582, Final EIS, IBR, CA, Sacramento River Settlement Contractors (SRSC), To Renew the Settlement Contractors Long-Term Contract Renewal for 145 Contractors, Central Valley Project (CVP), Sacramento River, Shasta, Tehama, Butte, Glenn, Colusa, Sutter, Yolo, Sacrament, Portion of Placer and Solano Counties, CA, Wait Period Ends: January 18, 2005, Contact: Buford Holt (916) 989-7179.

EIS No. 040583, Draft EIS, BLM, WY, Rawlin Field Office Planning Area Resource Management Plan, Addresses the Comprehensive Analysis of Alternatives for the Planning and Management of Public Land and Resource Administered by (BLM), Albany, Carbon, Laramie and Sweetwater Counties, WY , Comment Period Ends: March 17, 2005, Contact: John Spehar (307) 328-4264.

Amended Notices

EIS No. 040472, Draft EIS, AFS, CO, Village at Wolf Creek Project, Application for Transportation and Utility Systems and Facilities, Proposed Development and Use of Roads and Utility Corridors Crossing, National Forest System Lands to Access 287.5 Acres of Private Property Land, Mineral County, CO, Comment Period Ends: January 5, 2005, Contact: Robert Dalrymple (719) 852-5941. Revision of FR Notice Published on 11/26/2004: CEQ Comment Period Ending on 12/06/2004 has been Extended to 1/05/2005.

EIS No. 040538, Draft EIS, FAA, FL, Panama City-Bay County International Airport (PFN), Proposed Relocation to a New Site, NPDES Permit and U.S. Army COE Section 404 Permit, Bay County, FL, Comment Period Ends: January 28, 2005, Contact: Virginia Lane (407) 812-6331, Ext 129. Revision of FR Notice Published on 11/26/04: CEQ Comment Period Ending 1/21/2005 has been Extended to 1/28/2005.

EIS No. 040564, Final EIS, AFS, SD, Southeast Geographic Area Rangeland Management on National Forest System Lands of the Buffalo Gap National Grassland, To Implement Best Management Grazing Practices, Buffalo Gap National Grassland, Falls River Ranger District, Fall River County, SD, Wait Period Ends: January 10, 2005, Contact: Michael L. Erik (605) 745-4107. Revision of FR Notice Published on 12/10/04: Correction to Title.

Dated: December 14, 2004.
Robert W. Hargrove,
Director, NEPA Compliance Division, Office of Federal Activities.

[FR Doc. 04-27673 Filed 12-16-04; 8:45 am]

BILLING CODE 6560-50-P